TENNESSEE VALLEY AUTHORITY

18 CFR Part 1301

Privacy Act Regulations

AGENCY: Tennessee Valley Authority (TVA).

ACTION: Final rule.

SUMMARY: The Tennessee Valley Authority issues this final rule amending its Privacy Act (PA) regulation to redesignate section numbering.

DATES: This rule is effective November 8, 2017.

ADDRESSES: Tennessee Valley Authority, 400 W. Summit Hill Drive, Knoxville, TN 37902-1401.

FOR FURTHER INFORMATION CONTACT: Christopher A. Marsalis, Senior Privacy Program Manager, Tennessee Valley Authority, 400 W. Summit Hill Drive (WT 5D), Knoxville, Tennessee 47902-1401; telephone (865) 632-2467 or by email to camarsalis@tva.gov.

SUPPLEMENTARY INFORMATION: TVA's Privacy Act Regulations originally were published at §§ 1301.11 through 1301.24. With this amendment TVA is redesignating these sections to be numbered §§ 1301.21 through 1301.34.

Lists of Subjects in 18 CFR Part 1301

Freedom of Information, Privacy, Government in the Sunshine.

For the reasons stated in the preamble, TVA amends 18 CFR part 1301 as follows:

PART 1301—PROCEDURES

1. The authority citation for part 1301 is revised to read as follows:

Authority: 5 U.S.C. 552 and 552a; 16 U.S.C. 831-831dd.

§ § 1301.20 through 1301.24 [Removed]

2. Amend subpart B by removing §§ 1301.20 through 1301.24.

§ § 1301.11 through 1301.24 [Redesignated as §§ 1301.21 through 1301.34]

3. Amend subpart B, by redesignating §§ 1301.11 through 1301.24 as §§ 1301.21 through 1301.34 as demonstrated in the following table:

Subpart B—Privacy Act

Redesignate §§ 1301.11 through 1301.24 as follows:

Old section | New section
1301.11 | 1301.21
1301.12 | 1301.22
1301.13 | 1301.23
1301.14 | 1301.24
1301.15 | 1301.25
1301.16 | 1301.26
1301.17 | 1301.27
1301.18 | 1301.28
1301.19 | 1301.29
1301.20 | 1301.30
1301.21 | 1301.31
1301.22 | 1301.32
1301.23 | 1301.33
1301.24 | 1301.34

§ 1301.21 [Amended]

4. Amend newly redesignated § 1301.21 as follows:

a. In paragraph (a), by removing “1301.11 to 1301.24” and adding in its place “1301.21 to 1301.34”.

b. In paragraph (b), by removing “1301.11 to 1301.24” and adding in its place “1301.21 to 1301.34”.

§ 1301.22 [Amended]

5. Amend newly redesignated § 1301.22 as follows:

a. In the introductory text, by removing “1301.11 to 1301.24” and adding in its place “1301.21 to 1301.34”.

b. In paragraph (e), by removing “1301.19(a)” and adding in its place “1301.29(a)”.

c. In paragraph (f), by removing “1301.19” and adding in its place “1301.29”.

§ 1301.23 [Amended]

6. Amend newly redesignated § 1301.23 by wrapping the undesignated sentence following paragraph (b)(6) into paragraph (b)(6), removing “1301.14” and adding in its place “1301.24”, and removing “1301.14(g)” and adding in its place “1301.24(g)”.

§ 1301.24 [Amended]

7. Amend newly designated § 1301.24 in paragraph (a) by removing “1301.15” and adding in its place “1301.25” and removing “1301.13” and adding in its place “1301.23”.

§ 1301.25 [Amended]

8. Amend newly redesignated § 1301.25 as follows:

a. In paragraph (a), by removing “1301.21” and adding in its place “1301.31”.

b. In paragraph (b), removing “1301.14” and adding in its place “1301.24” and removing “1301.21” and adding in its place “1301.31”.

§ 1301.27 [Amended]

9. Amend newly redesignated § 1301.27 as follows:

a. In paragraph (b), by removing “1301.14” and adding in its place “1301.24”.

b. In paragraph (d), by removing “1301.11 to 1301.24” and adding in its place “1301.21 to 1301.34”.

§ 1301.30 [Amended]

10. Amend newly redesignated § 1301.30 by removing “1301.11 to 1301.24” and adding in its place “1301.21 to 1301.34”.

Christopher A. Marsalis,
Senior Privacy Program Manager Enterprise Information Security & Policy, Tennessee Valley Authority.

[FR Doc. 2017-24300 Filed 11-7-17; 8:45 am]

BILLING CODE 8120-08-P